DEPARTMENT OF ENERGY

Federal Energy Regulatory Commission

[Docket No. CP11-543-000, ANR Pipeline Company; Docket No. CP11-544-000, TC Offshore LLC]

Notice of Application for Abandonment by Sale and Notice of Application for Certificate of Public Convenience and Necessity

Take notice that on September 1, 2011, ANR Pipeline Company (ANR), an indirect wholly-owned subsidiary of TransCanada Corporation, 717 Texas Street, Houston, Texas 77002-2761, filed with the Federal Energy Regulatory Commission (Commission) an application in Docket No. CP11-543-000 under Section 7(b) of the Natural Gas Act (NGA) for permission and approval to abandon by sale to TC Offshore LLC (TCO) certain onshore facilities located in Louisiana and Texas, and certain offshore supply facilities located in State and Federal waters offshore Louisiana and Texas in the Gulf of Mexico. Also take notice that on September 1, 2011, TCO, a wholly-owned subsidiary of ANR, 717 Texas Street, Suite 2400, Houston, Texas 77002-2761, filed with the Commission an abbreviated application in Docket No. CP11-544-000 under Section 7(c) of the NGA requesting authorization for TCO to acquire, own and operate those natural gas pipeline facilities proposed by ANR to be abandoned by sale, as well as blanket certificates issued to TCO under Subpart F of Part 157 and Subpart G of Part 284 of the Commission's regulations, all as more fully set forth in the applications which are on file with the Commission and open to public inspection.

Specifically, ANR proposes in Docket No. CP11-543-000 to abandon by sale to TCO various facilities consisting of approximately 535 miles of pipeline, seven offshore platforms, measurement, compression, separation and dehydration facilities, and appurtenances, as well as its interests in several partially owned offshore facilities. TCO seeks in Docket No. CP11-544-000 a certificate of public convenience and necessity pursuant to NGA Section 7 authorizing TCO to acquire, own and operate those natural gas pipeline facilities proposed for abandonment by ANR in Docket No. CP11-543-000; a blanket construction certificate pursuant to Subpart F of Part 157 of the Commission's regulations, authorizing certain routine construction, operation and abandonment activities; and a blanket transportation certificate under Subpart G of Part 284 of the Commission's regulations authorizing TCO to provide open access transportation service on behalf of others pursuant to the services, tariff provisions and initial recourse rates proposed and detailed in the application.

Any questions regarding the ANR application in Docket No. CP11-543-000 should be directed to Rene Staeb, Manager, Project Determinations & Regulatory Administration, ANR Pipeline Company, 717 Texas Street, Houston, Texas 77002-2761, phone (832) 320-5215 or FAX (832) 320-6215 or Rene_Staeb@transcanada.com.

Any questions regarding the TCO application in Docket No. CP11-544-000 may be directed to Richard Parke, Manager, Certificates, TC Offshore LLC, 717 Texas Street, Suite 2400, Houston, Texas, 77002-2761, phone (832) 320-5516, e-mail: Richard_parke@transcanada.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 7 copies of the protest or intervention to the Federal Energy regulatory Commission, 888 First Street, NE,, Washington, DC 20426. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: October 4, 2011.

Dated: September 13, 2011.
Kimberly D. Bose,
Secretary.

[FR Doc. 2011-24022 Filed 9-19-11; 8:45 am]

BILLING CODE 6717-01-P